DEPARTMENT OF HEALTH AND HUMAN SERVICES

[Document Identifier: OS-0990-new]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before January 22, 2018.

ADDRESSES: Submit your comments to OIRA_submission@omb.eop.gov or via facsimile to (202) 395-5806.

FOR FURTHER INFORMATION CONTACT: Sherrette Funn, Sherrette.Funn@hhs.gov or (202) 795-7714. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: I Can Do It, You Can Do It! Program Evaluation.

Type of Collection: New.

OMB No. 0990—NEW—Office within OS—President's Council on Fitness, Sports & Nutrition (PCFSN), Office of the Assistant Secretary for Health.

Abstract: Approximately 56 million children and adults living in the United States have some level of disability. Despite physical activity and good nutrition being the cornerstones of evidence-based health promotion interventions for reducing the risk of comorbidities (e.g., diabetes, heart disease, and stroke), many people with a disability or caregivers who have a child with a disability experience substantial difficulty accessing these programs. Benefits of physical activity and good nutrition have been well documented for individuals with and without a disability, including: reducing the risk of developing chronic diseases and medical conditions. Studies also show that one-on-one mentoring through healthy eating, physical activity, and sport participation can support the development of social skills, improve positive self-esteem, and increase self-confidence among children and adults with a disability. I Can Do It, You Can Do It! partners with K-12 schools and school districts, colleges and universities, and other community-based entities to provide access and opportunities for children and adults with a wide range of physical and cognitive disabilities to lead healthy, active lives. PCFSN plans to conduct a rigorous evaluation of I Can Do It, You Can Do It! The evaluation will assess the impact of the program on mentee level outcomes (impact evaluation) as well as barriers and facilitators to program implementation (process evaluation). Evaluation activities will take place in 10 sites between summer 2018 and fall 2019. The I Can Do It, You Can Do It! sites recruited to participate in the evaluation will be identified from a list of schools and community organizations that have signed up to be program sites. The aims of the process evaluation are to determine what parts of the program were successful, the usefulness of program materials, and what changes are necessary to improve the administration of the program. The aims of the impact evaluation are to examine how ICDI impacts Mentee physical activity and healthy eating behaviors. The information collected for the I Can Do It, You Can Do It! Program Evaluation will allow the OPCFSN and partners to assess the impact of the program and gather critical information for improvement. OMB approval is requested for three years. Participation in I Can Do It, You Can Do It! is voluntary and there are no costs to respondents other than their time.

Estimated Annualized Burden Table
Forms | Respondents | Number of respondents | Number of responses per respondents | Average burden per response | Total burden hours
Site Application | Site Coordinator | 10 | 1 | 7/60 | 1
Partner Application | National Partner Organizations | 50 | 1 | 15/60 | 12
Site Annual Follow-Up Survey | Site Coordinator | 10 | 1 | 5/60 | 1
End of Wave 1 Interview | Site Coordinator | 10 | 1 | 30/60 | 5
End of Wave 1 Feedback Survey | Site Coordinator | 10 | 1 | 11/60 | 2
End of Wave 2 Interview | Site Coordinator | 10 | 1 | 30/60 | 5
End of Wave 2 Feedback Survey | Site Coordinator | 10 | 1 | 6/60 | 1
Technical Assistance Assessment | Site Coordinator | 10 | 1 | 10/60 | 2
Mentee Pre-Assessment | Mentee/Program Participant | 700 | 1 | 20/60 | 233
Mentee Post-Assessment | Mentee/Program Participant | 700 | 1 | 25/60 | 292
Mentor Feedback Survey | Mentor | 700 | 1 | 8/60 | 94
Weekly Goal-Setting Guide | Mentor | 700 | 8 | 10/60 | 936
Total |  |  | 19 |  | 1,584

Dated: December 12, 2017.
Darius Taylor,
Office of the Secretary, Paperwork Reduction Act Reports Clearance Officer.

[FR Doc. 2017-27559 Filed 12-21-17; 8:45 am]

BILLING CODE 4150-35-P